ENVIRONMENTAL PROTECTION AGENCY

[EPA-HQ-OPP-2024-0521; FRL-12356-01-OCSPP]

Pesticides; Spanish Translation Guide for Pesticide Labeling; Notice of Availability

AGENCY: Environmental Protection Agency (EPA).

ACTION: Notice.

SUMMARY: The Environmental Protection Agency (EPA or Agency) is announcing the availability of an updated guide for pesticide registrants to translate parts of their pesticide product labels into Spanish. The Spanish Translation Guide for Pesticide Labeling (STGPL) is written based on a universal form of Spanish to reach as many Spanish speakers as possible and provide example translations for language typically used in the health and safety sections of pesticide product labels.

DATES: This guide is effective December 26, 2024.

ADDRESSES: The docket for this action, identified by docket identification (ID) number EPA-HQ-OPP-2024-0521, is available online at https://www.regulations.gov. Additional information about dockets generally, along with instructions for visiting the docket in-person, is available at https://www.epa.gov/dockets.

FOR FURTHER INFORMATION CONTACT: Susan Bartow Pesticide Re-evaluation Division (7508M), Office of Pesticide Programs, Office of Chemical Safety and Pollution Prevention, Environmental Protection Agency, 1200 Pennsylvania Ave. NW, Washington, DC 20460-0001; telephone number: (202) 566-2280 email address: OPPBilingualLabels@epa.gov.

SUPPLEMENTARY INFORMATION:

I. Executive Summary

A. Does this action apply to me?

This action is directed to the general public and may be of specific interest to persons or entities that register or use pesticide products. Since a potentially broad range of entities may be interested in this action, the Agency has not attempted to describe all the specific entities that may be interested. If you have any questions regarding the applicability of this guidance to a particular entity or registration action, contact the person listed under FOR FURTHER INFORMATION CONTACT.

B. What is the Agency's authority for taking this action?

Pesticide registration activities are governed by the Federal Insecticide Fungicide and Rodenticide Act (FIFRA), 7 U.S.C. 136 et seq., which was amended by the Pesticide Registration Improvement Act of 2022 (PRIA 5) on December 29, 2022. PRIA 5 amended FIFRA section 4(k) to require the safety and health portions of pesticide product labels to be translated into Spanish. PRIA 5 provides deadlines for bilingual labeling to appear on pesticide products on a rolling schedule from December 29, 2025, to December 29, 2030, with translations for the most hazardous and toxic pesticide products required first. PRIA 5 also requires the Agency to notify registrants within 10 days of updating the Spanish Translation Guide.

C. What action is the Agency taking?

EPA is announcing that an updated Spanish Translation Guide for Pesticide Labeling (STGPL) is available on the Agency web page to help guide pesticide registrants translate parts of their pesticide product labels into Spanish. EPA generally allows pesticide registrants to translate their product labels into any language so long as there is an EPA-approved English version of the label, and the translation is true and accurate.

For additional information about bilingual labeling for pesticide products, go to https://www.epa.gov/pesticide-labels/bilingual-labeling.

II. Background

EPA's Office of Pesticide Programs (OPP) originally released the STGPL to the public in 2019 in response to concerns voiced by farmworker advocates, who argued that having bilingual pesticide labeling is critical to the well-being and protection of pesticide applicators and farmworkers who may be exposed to pesticides, many of whom in the U.S. may not be English literate. This more recent version of the STGPL includes changes or updates following stakeholder feedback, a sampling of current labeling, and statements from the 2021 Label Review Manual (LRM) that had not previously been included. These updates are comprised of additional language examples for different sections, updates made based on the LRM, and entirely new sections inserted with examples.

The STGPL is a resource for pesticide registrants to use for the translation of the required human health and safety sections on pesticide labeling from English to Spanish. Only these sections are necessary for translation to ensure that workers have access to important information to protect themselves from pesticide exposure, and to get appropriate help if exposed to a pesticide product. While use of the specific language from the STGPL is not required, EPA encourages use of the language in the STGPL to ensure translations are “true and accurate” per the responsibility of the registrant.

III. Do guidance documents contain binding requirements?

The STGPL is intended to provide guidance to pesticide registrants and EPA personnel and decision makers. While the requirements in the statutes and Agency regulations are binding on EPA and the pesticide registrants, the STGPL does not impose binding requirements on the Agency or any outside parties. As guidance, EPA may depart from the guidance where circumstances warrant and without prior notice. Likewise, pesticide registrants may assert that the guidance is not appropriate generally or not applicable to a specific pesticide or situation.

EPA encourages the use of the language in the STGPL to ensure that translations of the English text are “true and accurate.”. Although use of the specific language from the STGPL is not required, the registrant is still responsible for ensuring that “true and accurate” Spanish translations are included for each section of the label that is included in the Agency's STGPL.

Authority: 7 U.S.C. 136 et seq.

Dated: December 18, 2024.
Michal Freedhoff,
Assistant Administrator, Office of Chemical Safety and Pollution Prevention.

[FR Doc. 2024-30742 Filed 12-23-24; 8:45 am]

BILLING CODE 6560-50-P